DEPARTMENT OF LABOR

Office of the Secretary

Submission for OMB Review: Comment Request

May 1, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Website at http://www.reginfo.gov/public/do/PRAMain or by contacting Darrin King on 202-693-4129 (this is not a toll-free number) / e-mail: king.darrin@dol.gov.

Interested parties are encouraged to send comments to the Office of Information and Regulatory Affairs, Attn: OMB Desk Officer for the Bureau of Labor Statistics (BLS), Office of Management and Budget, Room 10235, Washington, DC 20503, Telephone: 202-395-7316 / Fax: 202-395-6974 (these are not a toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Extension without change of a previously approved collection.

Title: Report on Current Employment Statistics.

OMB Control Number: 1220-0011.

Affected Public: Business or other for-profits; not-for-profit institutions; State, Local, and Tribal Governments; and Federal Government.

Estimated Number of Respondents: 264,700.

Total Estimated Annual Burden Hours: 529,940.

Total Estimated Annual Costs Burden: $0.

Description: The Current Employment Statistics program provides current monthly statistics on employment, hours, and earnings, by industry. The statistics are fundamental inputs in economic decision processes at all levels of government, private enterprise, and organized labor. For additional information, see related notice published at 73 FR 7608 on February 8, 2008.

Agency: Bureau of Labor Statistics.

Type of Review: Extension without change of a previously approved collection.

Title: Quarterly Census of Employment and Wages (QCEW).

OMB Control Number: 1220-0012.

Affected Public: State, Local, and Tribal Governments.

Estimated Number of Respondents: 53.

Total Estimated Annual Burden Hours: 1,042,080.

Total Estimated Annual Costs Burden: $0.

Description: QCEW data, which are provided to BLS by State Workforce Agencies, are used by BLS as a sampling frame for its establishment surveys; for publishing of accurate current estimates of employment for the U.S., States, and metropolitan areas; and publishing quarterly census totals of local establishment counts, employment, and wages. The Bureau of Economic Analysis uses the data to produce accurate personal income data for the U.S., States, and local areas. Finally, the data is critical to the Employment Training Administration to administer unemployment insurance programs. For additional information, see related notice published at 73 FR 6215 on February 2, 2008.

Agency: Bureau of Labor Statistics.

Type of Review: Extension without change of a previously approved collection.

Title: Consumer Price Index Commodities and Services Survey.

OMB Control Number: 1220-0039.

Affected Public: Business or other for-profits; not-for-profit institutions; and State, Local, or Tribal Governments.

Estimated Number of Respondents: 53,600.

Total Estimated Annual Burden Hours: 123,850.

Total Estimated Annual Costs Burden: $0.

Description: The Consumer Price Index (CPI) is a measure of the average change over time in the prices paid by consumers for a market basket of consumer goods and services. Each month, BLS data collectors called economic assistants, visit or call thousands of retail stores, service establishments, rental units, and doctors' offices, all over the United States to obtain information on the prices of the thousands of items used to track and measure price changes in the CPI. The collection of price data is essential for the timely and accurate calculation of the commodities and services component of the CPI. The CPI is then widely used as a measure of inflation, indicator of the effectiveness of government economic policy, deflator for other economic series, and as a means of adjusting dollar values. For additional information, see related notice published at 73 FR 3755 on January 22, 2008.

Darrin A. King,
Acting Departmental Clearance Officer.

[FR Doc. E8-10038 Filed 5-6-08; 8:45 am]

BILLING CODE 4510-24-P